DEPARTMENT OF TRANSPORTATION

Federal Highway Administration

Environmental Impact Statement: Travis County, Texas

AGENCY: Texas Department of Transportation (TxDOT), Federal Highway Administration (FHWA), Department of Transportation.

ACTION: Federal Notice of Intent to prepare an Environmental Impact Statement (EIS).

SUMMARY: The FHWA, on behalf of TxDOT, is issuing this notice to advise the public that an EIS will be prepared for a proposed transportation project to construct two non-tolled managed lanes in each direction along Interstate Highway 35 (I-35) from US Highway 290 (US 290) East to US 290 West/State Highway (SH) 71, and add direct connectors at I-35/US 290 East, in Austin, Travis County, Texas (referred to as the Capital Express Central Project).

FOR FURTHER INFORMATION CONTACT: Adam Kaliszewski, P.E., Transportation Engineer, TxDOT Austin District, 7901 N I-35, Austin, TX 78753; Phone: (512) 832-7183; Email: adam.kaliszewski@txdot.gov.

SUPPLEMENTARY INFORMATION: The environmental review, consultation, and other actions required by applicable Federal environmental laws for this project are being, or have been, carried out by TxDOT pursuant to 23 U.S.C. 327 and a Memorandum of Understanding dated December 9, 2019, and executed by FHWA and TxDOT.

TxDOT will prepare an EIS for proposed improvements to I-35 through the city of Austin, Texas. The project is anticipated to be approximately 8 miles long on I-35, from US 290 East to US 290 West/SH 71.

The EIS will evaluate a range of build alternatives and a no-build alternative. Possible alternatives include lowered sections of managed and general purpose lanes. Each build alternative would include various operational and safety enhancements that optimize the roadway footprint, and would reconstruct ramps, bridges, and intersections; improve frontage roads; enhance bicycle and pedestrian accommodations; accommodate transit routes; and add direct connectors at I-35/US 290 East.

TxDOT will issue a single Final Environmental Impact Statement and Record of Decision document pursuant to 23 U.S.C. 139(n)(2), unless TxDOT determines statutory criteria or practicability considerations preclude issuance of a combined document.

In accordance with 23 U.S.C. 139, cooperating agencies, participating agencies, and the public will be given an opportunity for continued input on project development. A public scoping meeting is planned for Fall/Winter 2020. Event details are still being determined. An agency scoping meeting will also be held with participating and cooperating agencies. The agency and public scoping meetings will provide an opportunity for the participating/cooperating agencies and public to review and comment on the draft coordination plan, the schedule, and the project purpose and need, as well as providing the opportunity to discuss the range of alternatives and methodologies and level of detail for analyzing alternatives. In addition to the agency and public scoping meetings, public meetings and comprehensive stakeholder engagement will take place and a public hearing will be held. Public notice will be given of the time and place of the meetings and hearing.

(Catalog of Federal Domestic Assistance Program Number 20.205, Highway Planning and Construction.)

Michael T. Leary,
Director, Planning and Program Development, Federal Highway Administration.

[FR Doc. 2020-17574 Filed 8-11-20; 8:45 am]

BILLING CODE 4910-22-P